DEPARTMENT OF TRANSPORTATION

Federal Aviation Administration

Aviation Rulemaking Advisory Committee—New Task

AGENCY: Federal Aviation Administration (FAA), DOT.

ACTION: Notice of continuing a task assignment for the Aviation Rulemaking Advisory Committee (ARAC).

SUMMARY: The FAA assigned the Aviation Rulemaking Advisory Committee (ARAC) a continuation of a task to provide recommendations regarding standards, training guidance, test management, and reference materials for airman certification purposes. The FAA added the Aircraft Mechanic Certificate with Airframe and/or Powerplant ratings to the existing list of certificates and ratings for which the ARAC will provide recommendations. This notice informs the public of the continuing ARAC activity and solicits additional membership for the existing Airman Certification System Working Group (ACS WG).

FOR FURTHER INFORMATION CONTACT: Van L. Kerns, Manager, Regulatory Support Division, FAA Flight Standards Service, AFS 600, FAA Mike Monroney Aeronautical Center, P.O. Box 25082, Oklahoma City, OK 73125; telephone (405) 954-4431, email van.l.kerns@faa.gov.

SUPPLEMENTARY INFORMATION:

ARAC Acceptance of Task

As a result of the December 17, 2015 ARAC meeting, the FAA assigned and ARAC accepted and designated this continuation of task to the ACS WG. The ACS WG continues to serve as staff to the ARAC and continues to provide advice and recommendations on the continued assigned task. The ARAC will review and accept the recommendation report and will submit it to the FAA.

Background

The FAA established the ARAC to provide information, advice, and recommendations on aviation related issues that could result in rulemaking to the FAA Administrator, through the Associate Administrator of Aviation Safety.

On December 19, 2013, ARAC accepted the FAA's assignment of a new task to establish an Airman Certification System Working Group (ACS WG) to assist in the development of standards, training guidance, test management, and reference materials for airman certification testing. The FAA announced the ARAC's acceptance of this task through a Federal Register Notice published on January 29, 2014 [79 FR 4800]. The original task focused on the Private Pilot, Commercial Pilot, Airline Transport Pilot, and Authorized Instructor certificates and the Instrument Rating. The ACS WG has made significant progress toward completion of this work. The FAA is now assigning ARAC to continue and expand the ACS WG's task to include development of recommended standards, training guidance, test management, and reference materials for the Aircraft Mechanic Certificate (AMC) with Airframe and/or Powerplant ratings and to add members with expertise in 14 CFR parts 65 and 147 to assist in this work. The addition of the AMC task arises from FAA and aviation industry recognition that the integrated Airman Certification Standards approach will address the compelling need to improve and update aircraft mechanic testing and training materials.

The Task

The ACS WG will provide advice and recommendations to the ARAC on the development of standards, training guidance, test management, and reference materials for the AMC with Airframe and/or Powerplant ratings.

1. In developing this report, the ACS WG, including its new members, shall familiarize itself with:

a. A report to the FAA from the Airman Testing Standards and Training Aviation Rulemaking Committee: Recommendations to Enhance Airman Knowledge Test Content and Its Processes and Methodologies for Training and Testing (www.faa.gov/aircraft/draft_docs/arc);

b. A report from the Airman Testing Standards and Training Working Group to the Aviation Rulemaking Advisory Committee;

c. Aeronautical knowledge and proficiency standards set forth in 14 CFR part 61, Certification: Pilots, Flight Instructors, and Ground Instructors; 14 CFR part 65 Certification: Airman Other Than Flight Crewmembers, subpart D, Mechanics, and Subpart E, Repairmen;

d. FAA Airman Knowledge Test Guides (FAA-G-8082-17E, FAA-G-8082-3A, FAA-G-8082-11C, FAA-G-8082-19);

e. Current Practical Test Standards documents for Private Pilot Airplane (FAA-S-8081-14B); Flight Instructor Airplane (FAA-S-8081-6C); Instrument Rating for Airplane, Helicopter, and Powered Lift (FAA-S-8081-4E);

f. Current Practical Test Standards documents for Aviation Mechanic General (FAA-S-8081-26A); Aviation Mechanic Airframe Practical Test Standards (FAA-S-8081-27A); and Aviation Mechanic Powerplant Practical Test Standards (FAA-S-8081-28A);

g. Current FAA guidance materials, to include the Pilot's Handbook of Aeronautical Knowledge (FAA-H-8083-25A); the Airplane Flying Handbook (FAA-H-8083-3A); the Aviation Instructor's Handbook (FAA-H-8083-9A); the Instrument Flying Handbook (FAA-H-8083-15A); the Instrument Procedures Handbook (FAA-H-8083-1A); the Aviation Maintenance Technician Handbook- General (FAA-H-8083-30), the Aviation Maintenance Technician Handbook Airframe (FAA-H-8083-31) Volumes 1 and 2; the Aviation Maintenance Technician Handbook Powerplant (FAA-H-8083-32) Volumes 1 and 2; the Aircraft Weight and Balance Handbook (FAA-H-8083-1A); and the appropriate FAA Airman Knowledge Testing Supplements (FAA-CT-8080 series documents).

2. FAA has specifically tasked the ACS WG to support the FAA's goal to enhance aviation safety by providing a means for the aviation industry to provide expert assistance and industry views to the FAA's Flight Standards Service (AFS) on the development, modification, and continued alignment of the major components of the airman certification system, which include:

a. The ACS for airman certificates and ratings (i.e. 8081-series documents);

b. Associated training guidance material (e.g., H-series handbooks);

c. Test management (e.g., test question development, test question boarding, test composition/test “mapping,” and CT-8080-series figures); and

d. Reference materials, to include AFS directives and Aviation Safety Inspector guidance; FAA Orders, Advisory Circulars (ACs), and other documents pertaining to the airman certification system.

3. Develop a report containing recommendations on the findings and results of the tasks explained above.

a. The recommendation report should document both majority and dissenting positions on the findings and the rationale for each position.

b. Any disagreements should be documented, including the rationale for each position and the reasons for the disagreement.

4. After the FAA accepts the recommendation report, the FAA may task the ARAC ACS WG to complete the following additional tasks:

a. Provide recommendations for regular industry review of standards, guidance, and test management for each airman certificate or rating included in this task;

b. Provide prioritized recommendations for applying the Airman Certification Standards framework to other airman certifications and ratings;

5. The ACS WG may be reinstated to assist the ARAC by responding to the FAA's questions or concerns after the recommendation report has been submitted.

Schedule

The recommendation report should be submitted to the FAA for review and acceptance no later than 30 months from the publication date in the Federal Register.

This tasking notice requires two recommendation reports.

• As tasked on December 19, 2013, published on January 29, 2014 [79 FR 4800], and amended at the ARAC's September 17, 2015 meeting, the ACS WG must submit an initial recommendation report covering the ARAC ACS Working Group's initial tasking for the Private Pilot, Commercial Pilot, Airline Transport Pilot, and Instructor certificates and the Instrument Rating to the FAA for review and acceptance no later than December, 2016.

• The addendum recommendation report on the new AMC task must be submitted to the FAA for review and acceptance no later than December, 2017.

Working Group Activity

The ACS WG must comply with the procedures adopted by the ARAC and are as follows:

1. Conduct a review and analysis of the assigned tasks and any other related materials or documents.

2. Draft and submit a work plan for completion of the task, including the rationale supporting such a plan, for consideration by the ARAC.

3. Provide a status report at each ARAC meeting.

4. Draft and submit the recommendation report based on the review and analysis of the assigned tasks.

5. Present the recommendation reports at the ARAC meeting.

Continued Participation in the Working Group/Addition of New Members

The existing ACS WG continues to be comprised of technical experts having an interest in the assigned task, and the FAA is now soliciting up to five new members with expertise in the aviation maintenance training and testing fields, specifically involving 14 CFR parts 65 and 147. The provisions of the August 13, 2014, Office of Management and Budget guidance, “Revised Guidance on Appointment of Lobbyists to Federal Advisory Committees, Boards, and Commissions” (79 FR 47482), continues the ban on registered lobbyists participating on Agency Boards and Commissions if participating in their “individual capacity.” The revised guidance now allows registered lobbyists to participate on Agency Boards and Commissions in a “representative capacity” for the “express purpose of providing a committee with the views of a nongovernmental entity, a recognizable group of persons or nongovernmental entities (an industry, sector, labor unions, or environmental groups, etc.) or state or local government.” (For further information see Lobbying Disclosure Act of 1995 (LDA) as amended, 2 U.S.C. 1603, 1604, and 1605.)

If you wish to become a member of the ACS WG for the purpose of assisting with the new AMT task, write the person listed under the caption FOR FURTHER INFORMATION CONTACT expressing that desire. Describe your interest in the task and state the expertise you would bring to the working group. The FAA must receive all requests by March 7, 2016. The ARAC and the FAA will review the requests and advise you whether or not your request is approved.

The members of the Airman Certification System Working Group must actively participate, attend all meetings, and provide written comments when requested. The members must devote the resources necessary to support the working group in meeting any assigned deadlines. The members must keep management and those represented advised of the working group activities and decisions to ensure the proposed technical solutions do not conflict with the position of those represented.

The Secretary of Transportation determined the formation and use of the ARAC is necessary and in the public interest in connection with the performance of duties imposed on the FAA by law.

The ARAC meetings are open to the public. However, meetings of the ACS WG are not open to the public, except to the extent individuals with an interest and expertise are selected to participate. The FAA will make no public announcement of working group meetings.

Issued in Washington, DC, on January 28, 2016.
Lirio Liu,
Designated Federal Officer, Aviation Rulemaking Advisory Committee.

[FR Doc. 2016-02046 Filed 2-3-16; 8:45 am]

BILLING CODE 4910-13-P